DEPARTMENT OF TRANSPORTATION

Office of the Secretary

Aviation Proceedings, Agreements Filed the Week Ending January 7, 2005

The following Agreements were filed with the Department of Transportation under the provisions of 49 U.S.C. 412 and 414. Answers may be filed within 21 days after the filing of the application.

Docket Number: OST-2005-20051.

Date Filed: January 6, 2005.

Parties: Members of the International Air Transport Association.

Subject: PTC123 0303 dated 30 November 2004

Mail Vote 426

USA-Korea (Rep. of), Malaysia Resolutions r1-r9

PTC123 0305 dated 31 December 2004

TC123 Minutes

PTC123 Fares 0124 dated 30 November 2004

USA-Korea (Rep. of), Malaysia Specified Fares Tables

Intended effective date: 1 March 2005

Docket Number: OST-2005-20058.

Date Filed: January 6, 2005.

Parties: Members of the International Air Transport Association.

Subject: PTC31 N&C/CIRC 0289 dated 26 November 2004

Japan-North America, Caribbean Resolutions

PTC31 N&C/CIRC 0290 dated 4 January 2005

Korea (Rep. of)-Canada, Caribbean, Mexico Resolutions

PTC31 N&C/CIRC 0291 dated 26 November 2004

Korea (Rep. of)-USA Resolutions

PTC31 N&C/CIRC 0292 dated 10 December 2004

Japan, Korea (Rep. of)-Central America, South America Resolutions

PTC31 N&C/CIRC 0293 dated 26 November 2004

Mail Vote 422

North and Central, Circle Pacific Areawide Resolutions

PTC31 N&C/CIRC 0294 dated 10 December 2004

Mail Vote 423

South Asian Subcontinent, South East Asia-Central America, South America Resolutions

PTC31 N&C/CIRC 0295 dated 26 November 2004

Mail Vote 424

Malaysia-USA Resolutions r1-r91

Minutes: PTC31 N&C/CIRC 0296 dated 31 December 2004

North & Central, Circle Pacific Minutes

Tables: PTC31 N&C/CIRC Fares 0140 dated 30 November 2004

Japan-North America, Caribbean Specified Fares Tables

PTC31 N&C/CIRC Fares 0141 dated 7 December 2004

Korea (Rep. of), Malaysia-USA Specified Fares Tables

PTC31 N&C/CIRC Fares 0142 dated 10 December 2004

TC3-Central America, South America

Specified Fares Tables

PTC31 N&C/CIRC Fares 0143 dated 21 December 2004

Circle Pacific Specified Fares Tables

PTC31 N&C/CIRC Fares 0144 dated 4 January 2005

Korea (Rep. of)-Canada, Caribbean, Mexico

Specified Fares Tables

Intended effective date: 1 April 2005

Renee V. Wright,
Acting Program Manager, Federal Register Liaison.

[FR Doc. 05-1152 Filed 1-19-05; 8:45 am]

BILLING CODE 4910-62-P